DEPARTMENT OF COMMERCE

National Oceanic and Atmospheric Administration

[I.D. 122302C]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Research Steering Committee, Groundfish Oversight Committee and Social Science Advisory Committee in January, 2003 to consider actions affecting New England fisheries in the exclusive economic zone (EEZ). Recommendations from these groups will be brought to the full Council for formal consideration and action, if appropriate.

DATES: The meetings will be held between January 14-24, 2003. See SUPPLEMENTARY INFORMATION for specific dates and times.

ADDRESSES: The meetings will be held in Wakefield, Mansfield, and Weston, MA. See SUPPLEMENTARY INFORMATION for specific locations.

Council address: New England Fishery Management Council, 50 Water Street, Mill 2, Newburyport, MA 01950.

FOR FURTHER INFORMATION CONTACT: Paul J. Howard, Executive Director, New England Fishery Management Council (978) 465-0492.

SUPPLEMENTARY INFORMATION:

Meeting Dates and Agendas

Tuesday, January 14, 2003, 9:30 a.m. Research Steering Committee Meeting.

Location: Sheraton Colonial, One Audubon Road, Wakefield, MA 01880; telephone: (781) 245-9300.

The committee will receive an update on the status of current projects, recent contract awards and funding for the NOAA Fisheries Cooperative Research Partners Initiative, including progress on the development of a Request for Proposals concerning fisheries habitat research. They will discuss the development of procedures for tracking cooperative research projects, evaluation of final reports, and particularly the integration of results into the management process. There will be discussion of the status of the experimental fishing permit program, if time allows.

Wednesday, January 22, 2003, 9:30 a.m. Groundfish Oversight Committee Meeting.

Location: Holiday Inn, 31 Hampshire Street, Mansfield, MA 02048; telephone: (508) 339-2200.

The Groundfish Oversight Committee will meet to consider a number of issues related to the development of Amendment 13 to the Northeast Multispecies Fishery Management Plan (FMP). They will review timelines for continued development of the amendment and will plan the actions that must be taken in order to meet a May 1, 2004 implementation date. This review will include a discussion of the analysis of different rebuilding time periods and the alternatives that will be considered under each alternative. This discussion may include development of recommendations to the Council to eliminate management alternatives from further consideration. The Committee will also work on additional details for the total allowable catch alternatives and the implementation of a resource sharing understanding with Canada for transboundary stocks of cod, haddock, and yellowtail. The Committee will review information on bycatch of groundfish in a proposed whiting grate fishery and will develop a recommendation to the Council for Framework 38, the action that will implement that fishery. Finally, the Committee may develop suggestions for a days at sea (DAS) leasing program that the Council may ask the NMFS to implement in advance of the adoption of Amendment 13.

Friday, January 24, 2003, 10 a.m. Social Science Advisory Committee Meeting.

Location: Weston Public Library, 87 School Street, Weston, MA 02493; telephone: (781) 893-3312.

The committee will meet to discuss how to assist the Council in the development of amendments to the Monkfish and Groundfish FMPs. They will also discuss and possibly develop comments on the Scallop Draft Supplementary Environmental Impact Statement; elect a Chair, Vice Chair and discuss organizational issues.

Although non-emergency issues not contained in these agendas may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: December 24, 2002.
John H. Dunnigan,
Director, Office of Sustainable Fisheries, National Marine Fisheries Service.

[FR Doc. 02-32951 Filed 12-27-02; 9:30 am]

BILLING CODE 3510-22-S